DEPARTMENT OF HEALTH AND HUMAN SERVICES

National Institutes of Health

National Heart, Lung, and Blood Institute; Amended Notice of Meeting

Notice is hereby given of a change in the meeting of the National Heart, Lung, and Blood Institute Special Emphasis Panel, April 5, 2005, 2 p.m. to April 5, 2005, 5 p.m. National Institutes of Health, 6701 Rockledge Drive, Bethesda, MD, 20892 which was published in the Federal Register on March 30, 2005, FR70: 16293.

This meeting will be held on April 26, 2005 instead of April 5, as previously advertised. The meeting is closed to the public.

Dated: April 13, 2005.
LaVerne Y. Stringfield,
Director, Office of Federal Advisory Committee Policy.

[FR Doc. 05-7852 Filed 4-19-05; 8:45 am]

BILLING CODE 4140-01-M